DEPARTMENT OF THE INTERIOR

Southern Idaho Ground Squirrel Candidate Conservation Agreement With Assurances

AGENCY: Fish and Wildlife Service, Interior.

ACTION: Notice of availability.

SUMMARY: Soulen Livestock, Inc. (Soulen Livestock) has applied to the Fish and Wildlife Service (Service) for an enhancement of survival permit pursuant to section 10(a)(1)(A) of the Endangered Species Act of 1973, as amended. The permit application includes a proposed Southern Idaho Ground Squirrel Candidate Conservation Agreement with Assurances (Agreement) between Soulen Livestock, the Service, the Idaho Department of Fish and Game, and the Idaho Governor's Office of Species Conservation.

Under the proposed Agreement, the parties would implement conservation measures for southern Idaho ground squirrels (Spermophilus brunneus endemicus) over approximately 43,145 acres of Soulen Livestock's land in Washington and Payette Counties, western Idaho. The intent of the Agreement is to conserve southern Idaho ground squirrels by protecting and enhancing ground squirrel habitat and populations, and reintroducing ground squirrels into currently unoccupied suitable habitat, in a manner that is consistent with Soulen Livestock's farming and ranching operations. The proposed term of the Agreement and the permit is 20 years. The Service has prepared an Environmental Assessment for approval of the Agreement and issuance of the permit.

We request comments from the public on the permit application, Agreement, and the Environmental Assessment. All comments we receive, including names and addresses, will become part of the administrative record and may be released to the public.

DATES: Written comments should be received on or before April 22, 2002.

ADDRESSES: Comments should be addressed to Dennis Mackey, Project Biologist, Fish and Wildlife Service, 1387 S. Vinnell Way, Room 368, Boise, Idaho 83709, (facsimile: 208/378-5262).

FOR FURTHER INFORMATION CONTACT: Dennis Mackey at the above address or telephone 208/378-5267.

SUPPLEMENTARY INFORMATION:

Document Availability

You may obtain copies of the documents for review by contacting the individual named above. You also may make an appointment to view the documents at the above address during normal business hours.

Background

Under a Candidate Conservation Agreement with Assurances, participating landowners voluntarily implement conservation activities on their property to benefit unlisted species that are proposed or candidates for listing under the Endangered Species Act, or other sensitive species. Candidate Conservation Agreements with Assurances encourage private and other non-Federal property owners to implement conservation efforts, and reduce threats to unlisted species by assuring landowners that they will not be subjected to increased property use restrictions, beyond those identified in the agreement, if the species is listed in the future under the Endangered Species Act. Application requirements and issuance criteria for enhancement of survival permits through Candidate Conservation Agreements with Assurances are found in 50 CFR 17.22(d) and 17.32(d).

On October 30, 2001, the Service formally identified the southern Idaho ground squirrel as a candidate for listing under the Endangered Species Act (66 FR 54807). Southern Idaho ground squirrels are currently found within an approximately 518,000-acre area comprised of lower elevation shrub/steppe habitat in the Weiser River Basin, in southwest, Idaho. The species appears to have undergone a substantial population decline throughout its range since 1985. Southern Idaho ground squirrels are largely dependent on private lands: 85 percent of the occupied ground squirrel sites are located on private lands, mostly ranches and farms; 12 percent are under federal management by the Bureau of Land Management; and 3 percent of the sites are on lands managed by the Idaho Department of Lands. Conservation measures implemented on private lands are important for the long-term survival of the species.

Landowners may be willing to implement measures that enhance populations of sensitive species on their property, but reluctant to do so because of potential land-use restrictions that could occur should the species eventually be listed under the Endangered Species Act. As a result of this potential regulatory concern, Soulen Livestock developed the Southern Idaho Ground Squirrel Candidate Conservation Agreement with Assurances, in cooperation with the agencies, and is applying to the Service for a permit under section 10(a) of the Endangered Species Act, authorizing incidental take of southern Idaho ground squirrels.

Under the proposed Agreement and permit, Soulen Livestock and the agencies would implement various conservation measures over the 43,145 acres of Soulen Livestock's property depending on present and future occupancy of sites by southern Idaho ground squirrels and the location of ground squirrel reintroduction/translocation sites. The proposed conservation measures can be described in three categories: (1) Measures to be applied on all 43,145 acres; (2) measures that would occur on currently occupied ground squirrel sites (30 acres); and (3) measures on 43,115 acres where ground squirrel occupancy and habitat suitability is currently unknown. On all 43,145 acres of enrolled lands, Soulen Livestock would not authorize the shooting, trapping, or poisoning of southern Idaho ground squirrels and would allow agency personnel access to these lands to conduct ground squirrel surveys. Currently, three sites, covering 30 acres have been identified in the site-specific plan as occupied by southern Idaho ground squirrels and specific conservation measures have been identified at these sites to protect ground squirrels from activities that may have adverse affects to individual ground squirrels or their habitat. The ground squirrel conservation measures on the 30 acres include: (1) Continue reintroduction efforts, (2) monitor ground squirrel populations and habitat characteristics to identify habitat enhancement/rehabilitation measures; (3) implement habitat enhancement measures such as seeding native or non-native vegetation species, fertilizing vegetation, prescribed burning, and providing escape cover; (4) minimize direct mortality from ground disturbing activities; (5) provide supplemental feeding, if necessary; (6) prohibit shooting, trapping, or poisoning of ground squirrels; and (7) control Columbian ground squirrels and badgers. Columbian ground squirrels compete with southern Idaho ground squirrels for food and burrow sites. Badgers can cause severe impacts on prey species, especially if they are at critically low numbers. The remaining 43,115 acres have not been surveyed for ground squirrel occupancy, and no site-specific conservation measures have been identified on these lands. On these unsurveyed lands, both individual ground squirrels and their habitat will be protected from land use activities that may have adverse effects at any sites identified in the future as occupied by southern Idaho ground squirrels, or sites identified by the agencies as reintroduction/translocation sites. The permit would authorize incidental take of southern Idaho ground squirrels as a result of Soulen Livestock's land use activities: crop cultivation and harvesting, livestock grazing and production, farm equipment operation, and recreational activities.

We provide this notice pursuant to section 10(c) of the Endangered Species Act and implementing regulations for the National Environmental Policy Act (40 CFR 1506.6). We will evaluate the permit application, associated documents, and comments submitted thereon to determine whether the permit application meets the requirements of section 10(a) of the Endangered Species Act and National Environmental Policy Act regulations. If we determine that the requirements are met, we will sign the Agreement and issue an enhancement of survival permit under section 10(a)(1)(A) of the Endangered Species Act to Soulen Livestock for take of southern Idaho ground squirrels incidental to otherwise lawful activities in accordance with the terms of the Agreement. We will not make our final decision until after the end of the 30-day comment period and will fully consider all comments received during the comment period.

Dated: March 1, 2002.
Rowan W. Gould,
Deputy Regional Director, Fish and Wildlife Service, Portland, Oregon.

[FR Doc. 02-6810 Filed 3-20-02; 8:45 am]

BILLING CODE 4310-55-P